EXPORT-IMPORT BANK

[Public Notice: EIB-2020-0006]

Application for Final Commitment for a Long-Term Loan or Financial Guarantee in Excess of $100 million: AP089365XX and AP089366XX

AGENCY: Export-Import Bank.

ACTION: Notice.

SUMMARY: This Notice is to inform the public the Export-Import Bank of the United States (“EXIM”) has received two applications for final commitment for aggregated long-term loans or financial guarantees in excess of $100 million. Comments received within the comment period specified below will be presented to the EXIM Board of Directors prior to final action on these Transactions.

DATES: Comments must be received on or before September 25, 2020 to be assured of consideration before final consideration of the transactions by the Board of Directors of EXIM.

ADDRESSES: Comments may be submitted through Regulations.gov at www.regulations.gov. To submit a comment, enter EIB-2020-0006 under the heading “Enter Keyword or ID” and select Search. Follow the instructions provided at the Submit a Comment screen. Please include your name, company name (if any) and EIB-2020-0006 on any attached document.

SUPPLEMENTARY INFORMATION: Reference: AP089365XX and AP089366XX.

Purpose and Use:

Brief description of the purpose of the transactions: Oil and gas field development and production.

Brief non-proprietary description of the anticipated use of the items being exported: Assortment of goods and services used in oil and gas exploration and production.

To the extent that EXIM is reasonably aware, the item(s) being exported are not expected to produce exports or provide services in competition with the exportation of goods or provision of services by a United States industry.

Parties:

Principal Supplier: Various—approximately 83 different exporters.

Obligor: Petroleos Mexicanos (Pemex).

Guarantor(s): Pemex Exploration and Production, Pemex Logistica and Pemex Transformaction Industrial.

Description of Items Being Exported: Goods and services used in oil and gas exploration and production.

Information on Decision: Information on the final decision for these transactions will be available in the “Summary Minutes of Meetings of Board of Directors” on http://exim.gov/newsandevents/boardmeetings/board/.

Confidential Information: Please note that this notice does not include confidential or proprietary business information; information which, if disclosed, would violate the Trade Secrets Act; or information which would jeopardize jobs in the United States by supplying information that competitors could use to compete with companies in the United States.

Authority: Section 3(c)(10) of the Export-Import Bank Act of 1945, as amended (12 U.S.C. 635a(c)(10)).

Joyce B. Stone,
Assistant Corporate Secretary.

[FR Doc. 2020-19154 Filed 8-28-20; 8:45 am]

BILLING CODE 6690-01-P